COMMITTEE FOR PURCHASE FROM PEOPLE WHO ARE BLIND OR SEVERELY DISABLED

Procurement List; Proposed Deletions

AGENCY: Committee for Purchase From People Who Are Blind or Severely Disabled.

ACTION: Proposed deletions from the Procurement List.

SUMMARY: The Committee is proposing to delete products and services from the Procurement List that was previously furnished by nonprofit agencies employing persons who are blind or have other severe disabilities.

DATES: Comments must be received on or before: November 25, 2018.

ADDRESSES: Committee for Purchase From People Who Are Blind or Severely Disabled, 1401 S Clark Street, Suite 715, Arlington, Virginia 22202-4149.

FOR FURTHER INFORMATION CONTACT: For further information or to submit comments contact: Michael R. Jurkowski, Telephone: (703) 603-2117, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Deletions

The following products and services are proposed for deletion from the Procurement List:

Products

NSN(s)—Product Name(s): 5330-00-884-4807—Gasket and Preformed Packing Set

Mandatory Source of Supply: Walterboro Vocational Rehabilitation Center, Walterboro, SC

Contracting Activity: DLA Troop Support

NSN(s)—Product Name(s): 7240-00-889-3785—Pail, Utility, Plastic, 5-Pint

Mandatory Source of Supply: Community Enterprises of St Clair County, Port Huron, MI

Contracting Activity: GSA/FSS Greater Southwest Acquisition, Fort Worth, TX

Services

Service Type: Janitorial/Custodial Service

Mandatory for: U.S. Army Reserve Center: 2838-98 Woodhaven Road, Philadelphia Memorial, Philadelphia, PA

Mandatory Source of Supply: The Chimes, Inc., Baltimore, MD

Contracting Activity: Dept of the Army, W40M NORTHEREGION Contract OFC

Service Type: Switchboard Operation Service

Mandatory for: Shaw Air Force Base, SC

Mandatory Source of Supply: Palmetto Goodwill Services, North Charleston, SC

Contracting Activity: Dept of the Air Force, FA4803 20 CONS LGCA

Service Type: Grounds Maintenance Service

Mandatory for: U.S. Army Reserve Center: 2838-98 Woodhaven Road, Philadelphia Memorial, Philadelphia, PA

U.S. Army Reserve Center: 2501 Ford Road, Bristol Veterans, Bristol, PA

Mandatory Source of Supply: The Chimes, Inc., Baltimore, MD

Contracting Activity: Dept of the Army, W6QM MICC CTR-FT DIX (RC)

Service Type: Laundry Service

Mandatory for: Department of Homeland Security: Alien Detention & Removal (ADR), Immigration & Customs Enforcement (IEC) and Custom, San Diego, CA

Mandatory Source of Supply: Job Options, Inc., San Diego, CA

Contracting Activity: U.S. Customs and Border Protection, Border Enforcement Contracting Division

Service Type: Janitorial/Custodial Service

Mandatory for: Veterans Affairs Medical Center: OI Services Center, Edward Hines Jr., 1st Avenue, Bldg. 20, Hines, IL

Mandatory Source of Supply: Jewish Vocational Service and Employment Center, Chicago, IL

Contracting Activity: Veterans Affairs, Department of, Acquisition Service—FREDERICK

Patricia Briscoe,
Deputy Director, Business Operations (Pricing and Information Management).

[FR Doc. 2018-23465 Filed 10-25-18; 8:45 am]

BILLING CODE 6353-01-P